FEDERAL COMMUNICATIONS COMMISSION

47 CFR Parts 2 and 25

[IB Docket No. 02-10, FCC No. 03-286]

Procedures To Govern the Use of Satellite Earth Stations on Board Vessels in the 5925-6425 MHz/3700-4200 MHz Bands and 14.0-14.5 GHz/11.7-12.2 GHz Bands

AGENCY: Federal Communications Commission.

ACTION: Notice of proposed rulemaking.

SUMMARY: This document is a summary of the Notice of Proposed Rulemaking adopted by the Commission in this proceeding. The Commission sought comment on proposals that seek to provide regulatory certainty to both terrestrial fixed service (FS) and fixed satellite service (FSS) operators in the C-; and Ku-bands by protecting existing terrestrial FS and FSS operations from harmful interference that may be caused by ESVs; by allowing for future growth of FS and FSS networks; and by promoting more efficient use of the spectrum by permitting new uses of the bands by ESVs, thereby enabling important new communications services to be provided to consumers on board vessels. The Commission also sought comment on rules and procedures to license ESV networks in the C- and Ku-band frequencies over GSO FSS satellites.

DATES: Comments are due to be filed by February 23, 2004, and reply comments are due to be filed by March 8, 2004. OMB, the general public, and other Federal agencies are invited to comment on the information collection requirements on or before March 22, 2004.

FOR FURTHER INFORMATION CONTACT: Belinda Nixon, Breck Blalock, or James Ball, Policy Division, International Bureau, (202) 418-1460. For information concerning the information collection(s) contained in this document, contact Judith B. Herman at 202-418-0214, or via the Internet at jboley@fcc.gov.

SUPPLEMENTARY INFORMATION: This is a summary of the Commission's Notice of Proposed Rulemaking in IB Docket No. 02-10, FCC No. 03-286, adopted November 12, 2003 and released on November 24, 2003. The full text of this Commission decision is available for inspection and copying during normal business hours in the FCC Reference Center (Room CY-A257), 445 12th Street, SW., Washington, DC 20554. The document is also available for download over the Internet at http://hraunfoss.fcc.gov/edocs_public/attachmatch/FCC-03-286A1.pdf. The complete text may also be purchased from the Commission's copy contractor, Qualex International, in person at 445 12th Street, SW., Room CY-B402, Washington, DC 20554, via telephone at (202) 863-2893, via facsimile at (202) 863-2898, or via e-mail at qualexint@aol.com.

This Notice of Proposed Rulemaking (NPRM) contains proposed new or modified information collections subject to the Paperwork Reduction Act of 1995 (PRA), Public Law 104-3. It will be submitted to the Office of Management and Budget (OMB) for review under section 3507(d) of the PRA. OMB, the general public, and other Federal agencies are invited to comment on the modified information collections contained in this proceeding.

Summary of Notice of Proposed Rulemaking

In December 1991, Crescomm Transmission Services, Inc. (Crescomm), now Maritime Telecommunications Network (MTN) filed a Petition for Rulemaking to license ESVs in the C-band and Ku-band. In 1996, the IB and OET granted waivers of the Commission's rules to Qualcomm, Inc. (Qualcomm) and MTN to provide mobile-satellite service (MSS) using bands allocated to FSS and FS. The authorization placed conditions on the licenses, requiring them to protect against interference to, and accept interference from, other services or operations in the bands. Since that time, the Commission has authorized ESVs on U.S.-flagged vessels to operate pursuant to six month special temporary authorizations (STAs). The STAs require ESV service providers to operate on a non-harmful interference basis with respect to other radiocommunication services in the C-band and the Ku-band. In February, 2002, the Commission issued a Notice of Inquiry seeking comment on issues surrounding the operations and possible licensing of ESVs. The NOI focused on the bands that can best accommodate ESVs and on how to prevent interference to FS licensees.

In the Ku-band, the NPRM proposes to permit ESV operations on a primary basis with respect to other operations in the band. This band is extensively used by the FSS for VSAT operations. Various other satellite and terrestrial operations exist in the band to a lesser extent under other allocations. The NPRM seeks comment on how ESVs will co-exist with the other operations. The NPRM also seek comment on the following proposed requirements: Ku-band ESV networks would have automatic shut-off capability; ship location information would be provided to other operators in the Ku-band to identify and eliminate harmful interference that may be caused by an ESV; ESV equipped vessels must be 300 gross tons or larger; technical limitations to ensure compliance with two degree spacing and to prevent interference including: minimum antenna diameter of 1.2 meters, antenna pointing accuracy requirements, the NPRM proposes that Ku-band ESVs be authorized for a fifteen-year license term.

The NPRM proposes domestic rules that would authorize ESVs to operate on NIB in the C-band. The C-band is shared on a co-primary basis between the GSO FSS and terrestrial FS. The NPRM proposes that ESVs could be licensed following two approaches to address coordination issues between the ESVs and FS, the Coordination Approach and the Non-Coordination Approach. Under the Coordination Approach, ESVs operators would coordinate with FS operations prior to receiving a license for ES operations located within 300 kilometers of the United States coastline. ESVs would operate on a non-harmful interference basis with respect to other operations in the band. However, the process of coordinating between FSS operators and terrestrial FS operators is designed to reduce the potential for interference that may be caused to terrestrial FS operators. Thus, once an ESV operator has coordinated the operations of an ESV, it is unlikely that the ESV will cause interference to terrestrial operators. Therefore, under this approach, if there is a claim that an ESV is causing interference, the ESV may continue to operate until the interference claim is resolved. In general, the NPRM seeks comment on the following: ESVs operators would be permitted to coordinate any portion of the C-band spectrum under the Coordination Approach, however, an ESV operator would be limited to accessing two GSO FSS satellites and 36 megahertz per satellite, per location (e.g., port or waterway); ESV networks under the Coordination Approach would have automatic shut-off capability; ship location information would be maintained by the ESV operator for a 90-day period and would be provided, upon request, and in a secure fashion to other operators in the C-band, the Commission, or a third party for the purpose of identifying the source of harmful interference; ESV equipped vessels must be 300 gross tons or larger; several technical limitations would apply to C-band ESVs including: minimum antenna diameter of 2.4 meters, antenna pointing accuracy requirements, ESV networks under the Coordination Approach would be authorized for a 15-year license term.

Under the Non-Coordination Approach, ESVs would not have to coordinate with terrestrial FS operators prior to providing service. ESVs would be permitted to operate within 300 kilometers of the United States coastline on a non-harmful interference basis with respect to other operations in the band. An ESV would be subject to immediate shut-off of its service, however, if it is suspected that the ESV is causing harmful interference to a terrestrial FS operator. The ESV operator would have to resolve the interference claim prior to resuming operation of the ESV. In general, the NPRM seeks comment on the following: Non-Coordination ESV networks would have automatic shut-off capability; ship location information would be provided on a real time basis and via a secure method to terrestrial FS operators in the C-band to allow the terrestrial FS operators to identify harmful interference that may be caused by an ESV; ESV equipped vessels must be 300 gross tons or larger; and several technical limitations would apply to C-band ESVs including: minimum antenna diameter of 2.4 meters, antenna pointing accuracy requirements. Non-Coordination ESV networks would be authorized for a two-year license term.

The majority of cruise lines that operate from U.S. ports are foreign-flagged. By statute, the Commission cannot license ESVs on foreign-flagged vessels. In general, the NPRM seeks comment on the following: proposal to permit U.S.-licensed ESV hub operators to serve ESVs on foreign-flagged vessels in the C-band and Ku-band pursuant to the rules that would apply to U.S.-licensed ESV operations. If interference is caused by an ESV on a foreign-flagged vessel, the licensed ESV hub operator would have to eliminate the interference caused by the ESV operating in its network; proposal to permit, pursuant to bilateral agreements between the Commission and foreign regulators, ESV hub operators operating from foreign points to serve foreign-flagged vessels along the U.S. coastline in the C-band and Ku-band pursuant to the rules that would apply to U.S.-licensed ESV operations; in the alternative, we seek comment on whether ESV hub operators operating from foreign points should be required to shut off service to all ESVs on foreign-flagged vessels once the vessels enter the minimum distances (i.e. 125 km for Ku-band and 300 km for C-band) from the U.S. coast.

Procedural Matters

Paperwork Reduction Act

This NPRM contains a new or modified information collection. The Commission, as part of its continuing effort to reduce paperwork burdens, invites the general public to comment on the information collection contained in this NPRM as required by the Paperwork Reduction Act of 1995, Public Law 104-13. Public and agency comments are due March 22, 2004. A copy of any comments on the information collection contained herein should be submitted to Judy Boley, Federal Communications Commission, In addition to filing comments with the Secretary, a copy of any comments on the information collections contained herein should be submitted to Judy Boley, Federal Communications Commission, Room 1-C804, 445 12th Street, SW., Washington, DC 20554, or via the Internet to jboley@fcc.gov, and to Kim A. Johnson, OMB Desk Officer, Room 10236 NEOB, 725 17th Street, NW., Washington, DC 20503 or via the Internet to Kim_A._Johnson@omb.eop.gov.

Final Regulatory Flexibility Act Analysis

The Regulatory Flexibility Act of 1980, as amended (RFA), requires that a regulatory flexibility analysis be prepared for notice-and-comment rule making proceedings, unless the agency certifies that “the rule will not, if promulgated, have a significant economic impact on a substantial number of small entities.” See 5 U.S.C. 601-612, the RFA has been amended by the Small Business Regulatory Enforcement Fairness Act of 1996 (SBREFA), Public Law 104-121, Title II, 110 Stat. 857 (1996). The RFA generally defines the term “small entity” as having the same meaning as the terms “small business,” “small organization,” and “small governmental jurisdiction.” In addition, the term “small business” has the same meaning as the term “small business concern” under the Small Business Act. See 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” A “small business concern” is one which: (1) Is independently owned and operated; (2) is not dominant in its field of operation; and (3) satisfies any additional criteria established by the U.S. Small Business Administration (SBA). See 15 U.S.C. 632. The SBA has developed a small business size standard for Satellite Telecommunications, which consists of all such companies having $12.5 million or less in annual revenue. See 13 CFR 121.201, NAICS code 517410.

Pursuant to the Regulatory Flexibility Act (RFA), the Commission has prepared an Initial Regulatory Flexibility Analysis (IRFA) of the possible significant economic impact on small entities by the policies and actions considered in this NPRM. The text of the IRFA is set forth in Appendix B of the NPRM. Written public comments are requested on the IRFA. Comments must be identified as responses to the IRFA and must be filed by the deadlines for comments on the NPRM.

The proposed rules would, if adopted, require satellite telecommunications operators to establish a database for tracking the location of ESV remote earth stations. The NPRM seeks comment on this proposal, including the possible costs associated with the proposal, and seeks comment regarding possible alternatives. The proposed rules, if adopted, would also require ESV operators to maintain a point of contact for resolving possible claims of harmful interference, and seeks comment on this proposal and possible alternatives and the costs of compliance. The NPRM also proposes that wireless telecommunications providers nominate a person to serve as a point of contact for such claims of harmful interference. The Commission does not expect significant costs associated with this proposed rule, if adopted.

The NPRM seeks comment on possible methods for coordinating ESV operations with FS operations, including questions about the costs of such coordination, and also proposes and seeks comment on an alternative non-coordinated method for licensing. While the Commission does not expect that the cost of compliance with the coordination requirements, if adopted, would be burdensome to small business entities, the proposed alternative non-coordinated licensing approach would also be available to such entities and could help reduce costs to such entities.

This NPRM solicits comment on alternatives for more efficient processing of earth station on vessel (ESV) applications and simplifying ESV procedures, for example, by migrating from six-month special temporary licensing to a licensing method that would provide for licenses with terms from two to fifteen years. The NPRM also seeks comment on streamlining the application process for ESV operations by permitting blanket licensing of multiple ESV terminals in a single application. Adoption of some of these proposals would simplify the application process for ESVs and increase the licensing term for ESV operations. Accordingly, the Commission believes that adoption of these proposed rules would benefit all ESV applicants, including small entities, by significantly reducing the cost associated with obtaining and maintaining authority to operate an ESV network.

As described previously, the Commission also seeks comment on a number of alternative compliance and coordination processes, including seeking comments on the costs of such compliance. The Commission has taken care to consider the costs on business both large and small and has proposed alternatives to reduce the costs for both satellite and terrestrial operators.

Among these alternative is licensing on a non-coordination basis, which if adopted, could serve as a method for reducing costs for small entities by obviating the need to coordinate ESV operations with FS operations.

Ordering Clauses

Accordingly, pursuant to the authority contained in Sections 1, 4(i), 4(j), 7(a), 301, 303(c), 303(f), 303(g), 303(r), 303(y), and 308 of the Communications Act of 1934, as amended, 47 U.S.C. Sections 151, 154(i), 154(j), 157(a), 301, 303(c), 303(f), 303(g), 303(r), 303(y), 308, this Notice of Proposed Rulemaking is adopted.

The Commission's Consumer and Governmental Affairs Bureau, Reference Information Center shall send a copy of this Notice of Proposed Rulemaking, including the initial regulatory flexibility analysis, to the Chief Counsel for Advocacy of the Small Business Administration, in accordance with Section 603(a) of the Regulatory Flexibility Act, 5 U.S.C. 601, et seq. (1981).

List of Subjects in 47 CFR Parts 2 and 25

Radio, Satellites, Telecommunications.

Federal Communications Commission.
Marlene H. Dortch,
Secretary.

Rule Changes

For the reasons discussed in the preamble, the Federal Communications Commission proposes to amend 47 CFR parts 2 and 25 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.1(c) is amended by adding a new definition in alphabetical order to read as follows:

§ 2.1 Terms and definitions.

* * * * *

(c) * * *

* * * * *

Baseline. The line from which maritime zones are measured, also known as the coast line. The baseline is a combination of the low-water line and closing lines across the mouths of inland water bodies and is adjusted from time-to-time by the U.S. Department of State's Baseline Committee.

* * * * *

3. Section 2.106 is amended by revising pages 55, 57, 64, and 66 of the Table of Frequency Allocations and adding footnotes USxxx, NGxxx, and NGyyy to read as follows:

§ 2.106 Table of Frequency Allocations.

BILLING CODE 6712-01-P

BILLING CODE 6712-01-C

* * * * *

UNITED STATES (US) FOOTNOTES

* * * * *

USxxx Earth stations on vessels operating in the band 14-14.5 GHz shall not cause harmful interference to Federal Government stations of the space research service in the band 14-14.2 GHz nor to stations of the radio astronomy service in the band 14.47-14.5 GHz.

NON-FEDERAL GOVERNMENT (NG) FOOTNOTES

* * * * *

NGxxx In the bands 3700-4200 MHz (space-to-Earth) and 5925-6425 MHz (Earth-to-space), earth stations on board vessels (ESVs) may communicate with space stations of the fixed-satellite service on the condition that such use not cause harmful interference to, claim protection from, or otherwise impose constraints on the operation or development of fixed stations that operate in these bands. ESVs shall take all practical steps to comply with ITU Resolution 902 (WRC-03).

NGyyy In the bands 11.7-12.2 GHz (space-to-Earth) and 14.0-14.5 GHz (Earth-to-space), earth stations on board vessels (ESVs) may communicate with space stations of the fixed-satellite service on a primary basis. ESVs shall take all practical steps to comply with ITU Resolution 902 (WRC-03).

PART 25—SATELLITE COMMUNICATIONS

4. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

5. Section 25.103 is amended by adding a new paragraph (g) to read as follows:

§ 25.103 Definitions.

* * * * *

(g) Earth stations on board vessels (ESVs). An earth station located on board a vessel operating in certain bands of the fixed-satellite service, as distinct from a ship earth station, and intended to be used while in motion or during halts at unspecified points.

6. Section 25.115 is amended by adding paragraphs (c)(3) and (c)(4) to read as follows:

§ 25.115 Application for earth station authorizations.

* * * * *

(c)(3) Satellite earth station on board vessels (ESVs) or hub station applications for ESV networks operating in the 11.7-12.2 GHz/14.0-14.5 GHz (12/14 GHz or Ku-band).

(i) Applications to license networks of ESVs or hub earth stations for a network of ESVs operating in the 14.0-14.5 GHz frequency band under blanket operating authority shall be filed electronically on FCC Form 312, Main Form and Schedule B, for each large (5 meters or larger) hub station, and Schedule B for each representative type of small antenna (less than 5 meters) operating within the network.

(ii) The initial lead application shall provide a detailed overview of the complete network and fully identify the scope and nature of the service to be provided. The complete technical details of each representative type of small antenna shall also be provided. The lead application for a Ku-band ESV system must identify:

(A) The number of ESVs associated with the network;

(B) The operational area(s) where the proposed ESVs will operate. The description of the operational area should include a detailed description of any area within 125 km of the United States baseline, and in particular including ports and harbors where any ESV associated with the network may operate while in motion, halted for some unspecified time, moored or anchored, and all shipping channels and sea lanes where any ESV associated with the network may operate while in motion or halted for some unspecified time;

(C) Each licensee shall annually provide the Commission an updated list of all ports, harbors, shipping channels and sea lanes where any ESV associated with the network may operate;

(D) The ESV system's means of identification and location and method for maintaining a real-time secure database containing this information; and automatic mechanisms to terminate transmissions whenever the station operates outside of its authorized geographic area or operational limits; and a telephone number for the ESV operator point of contact to whom interference claims can be made 24-hours-a-day, seven-days-a-week;

(E) The ESV system's means to verify ESV performance and to terminate ESV transmissions immediately;

(F) The minimum antenna diameter (m);

(G) The pointing accuracy of the ESV antenna in degrees;

(H) The ESV transmitted power spectral density at the input to the antenna (dBw/40kHz);

(I) Demonstration of compliance with § 25.209 and § 25.132 of this section

(c)(4) Satellite earth stations on board vessels (ESVs) or hub station applications for ESV networks operating in the 3700-4200 MHz/5925-6425 MHz (4/6 GHz or C-band).

(i) Applications to license networks of ESVs or hub earth stations for a network of ESVs operating in 4/6 GHz band shall be filed electronically on FCC Form 312, Main Form and Schedule B, for each large hub station.

(ii) The initial lead application shall provide a detailed overview of the complete network and fully identify the scope and nature of the service to be provided. The lead application shall also provide an accurate list of the vessels the ESVs are located on, the frequency, bandwidth, and satellites that the ESVs are using, and an itinerary for each vessel from which the ESVs will be operating. The lead application shall also identify whether the services to be provided will be on a coordinated or non-coordinated basis. The complete technical details of each representative type of small antenna shall also be provided. The lead application for a C-band ESV system must identify:

(A) The number of ESVs associated with the network;

(B) The gross tonnage of each class of ship equipped with ESVs operating within the network;

(C) The ESV system's means of identification and location and, for non-coordinated ESV operations, method for maintaining a real-time secure database containing this information which can be accessed by FS operators, and automatic mechanisms to terminate transmissions whenever the station operates outside of its authorized geographic area or operational limits;

(D) The ESV system's means to verify ESV performance and to terminate ESV transmissions immediately, and a telephone number for the ESV operator point of contact to whom such request can be made 24-hours-a-day, seven-days-a-week;

(E) The antenna diameter (m);

(F) The pointing accuracy of the ESV antenna (°);

(G) The ESV transmitted power spectral density at the input to the antenna (dBw/40kHz);

(H) Demonstration of compliance with § 25.209 and § 25.132 of this section

(I) The operational area(s) where the proposed ESVs will operate. The description of the operational area should include a detailed description of any area within 300 km of the United States baseline, and in particular including ports and harbors where any ESV associated with the network may operate while in motion, halted for some unspecified time, moored or anchored, and all shipping channels and sea lanes where any ESV associated with the network may operate while in motion or halted for some unspecified time, and where coordination between an ESV-equipped vessel operating in the 4/6 GHz frequency and terrestrial microwave services, may be required;

(J) Each licensee shall annually provide the Commission an updated list of all ports, harbors, shipping channels and sea lanes where any ESV associated with the network may operate;

(K) Where ESV coordination in the 4/6 GHz band is required:

(1) The initial lead application shall demonstrate that frequency coordination of each operational area (ports and sea lanes) has been completed prior to filing the application. The coordination must be conducted in accordance with §§ 25.130 and 25.203 of this section.

(2) Each licensee shall annually provide the Commission an updated list of all operational areas where coordinated operations are taking place as of the date of the report. The annual list shall also identify the satellites providing service to the network as of the date of the report.

(3) Each hub earth station application must indicate which satellite transponders (i.e. frequency range) it will use to provide service to ESVs. The amount of frequency bandwidth available to any ESV network operator is limited to a maximum of 36 megahertz of spectrum in each direction of transmission for each of two satellites per geographic location (i.e. port or harbor). The same 36 megahertz of uplink and 36 megahertz of downlink spectrum for each satellite may be accessed by all ESVs in the network. The 36 megahertz of uplink and 36 megahertz downlink of spectrum need not be the same at each satellite location.

7. Section 25.121(a) is revised to read as follows:

§ 25.121 License terms and renewals.

(a) License Term. Except for licenses for DBS facilities and non-coordinated ESV operations in the C-band, licenses for facilities governed by this part will be issued for a period of 15 years.

* * * * *

8. Section 25.134 is amended by adding new paragraphs (a)(3) and (a)(4) to read as follows:

§ 25.134 Licensing provisions of Very Small Aperture Terminal (VSAT), C-band Small Aperture Terminal (CSAT), and Satellite Earth Stations on Board Vessels (ESV) networks.

* * * * *

(a)(3) ESV networks operating in the 12/14 GHz frequency band. Applications for ESV networks in the Ku-bands that meet the requirements of § 25.134 (a)(1) of this section, that employ antennas that are 1.2 meters or larger in diameter, and have ESV antenna pointing accuracies of +/−0.2 degrees or better will be routinely processed. The use of smaller antennas or non-consistent power levels will require the filing of an initial lead application (§ 25.115(c)(4) of this section) that includes all technical analyses required to demonstrate that unacceptable interference will not be caused to any affected adjacent satellite operators by the operation of the non-conforming earth station as described in § 25.134(b) of this section for VSATs. The licenses shall be issued for ESV operations within 125 km of the United States coastline. The hub earth station licensee shall be responsible for all ESV compliance in its network including foreign-flagged ships.

(a)(4) ESV networks operating in the 4/6 GHz frequency band. All ESV network applications or applications for hub earth station operations will be routinely processed provided the network employs antennas on board ships with a minimum of 300 gross tonnage that are 4.5 meters or larger in diameter, that are consistent with § 25.209 of this section, that the antennas would operate with power levels that are consistent with §§ 25.211(d) and 25.212(d) of this section, that the antennas would have pointing accuracies of +/−0.2 degrees or better, and where frequency coordination, if necessary, has been satisfactorily completed. The use of smaller antennas or other power levels requires the filing of an initial lead application (§ 25.115(c)(4) of this section) that includes all technical analyses required to demonstrate that unacceptable interference will not be caused to any all affected adjacent satellite operators by the operation of the non-conforming earth station. The hub earth station licensee shall be responsible for mitigating any interference arising from ESV operations with its network, regardless of the state of registry of the vessel. ESV licensees will specify that ESV operations shall not cause harmful interference to, claim interference protection from, or otherwise impose constraints on the operations or development of other radio services operating in this frequency band. The licenses shall be issued for ESV operations within 300 km of the United States coastline. For coordinated ESV operations, information about the identification and location of the vessel shall be retained for at least 90 days and be available within 72 hours upon request. Licenses for non-coordinated ESV operations shall be issued for a period of two years.

9. Section 25.202 is amended by adding a new paragraph (a)(8) to read as follows:

§ 25.202 Frequencies, frequency tolerance and emission limitations.

* * * * *

(a)(8) The following frequencies are available for use by ESVs:

3700-4200 MHz space-to-Earth

5925-6425 MHz Earth-to-space

11.7-12.2 GHz space-to-Earth

14.0-14.5 GHz Earth-to-space

10. Section 25.203 is amended by adding a new paragraph (l) to read as follows:

§ 25.203 Choice of sites and frequencies.

* * * * *

(l) Applications for coordination of 4/6 GHz band earth stations on board vessels. Prior to the filing of its application, the ESV hub earth station applicant must coordinate the proposed frequency usage of the ESVs within its network with existing terrestrial users and with applicants for terrestrial station authorizations and with previously filed applications in accordance with the coordination procedures set forth in Recommendations ITU-R SF.1649.

[FR Doc. 04-1245 Filed 1-21-04; 8:45 am]

BILLING CODE 6712-01-P